DEPARTMENT OF TRANSPORTATION

Maritime Administration

[Docket No. MARAD-2025-0467]

Request for Comments on the Renewal of a Previously Approved Collection: Request for Waiver of Service Obligation, Request for Deferment of Service Obligation, and Application for Review

AGENCY: Maritime Administration (MARAD), U.S. Department of Transportation (DOT).

ACTION: Notice.

SUMMARY: MARAD invites public comments on its intention to request Office of Management and Budget (OMB) approval to renew an information collection in accordance with the Paperwork Reduction Act of 1995. The proposed collection OMB 2133-0510 (Request for Waiver of Service Obligation, Request for Deferment of Service Obligation, and Application for Review) is used to determine if waivers and deferments may be granted to graduates of the U.S. Merchant Marine Academy (USMMA) and State Maritime Academies (SMAs) who participated in the Student Incentive Payment (SIP) Program. There are no changes since the last renewal. MARAD is required to publish this notice in the Federal Register to obtain comments from the public and affected agencies.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Danielle Bennett, 202-366-7618, Office of Maritime Labor and Training, W23-458, Maritime Administration, U.S. Department of Transportation, 1200 New Jersey Avenue SE, Room, Washington, DC 20590, Email: Maritime.Graduate@dot.gov.

SUPPLEMENTARY INFORMATION:

Title: Request for Waiver of Service Obligation, Request for Deferment of Service Obligation, and Application for Review.

OMB Control Number: 2133-0510.

Type of Request: Extension of a previously approved collection.

Abstract: This collection may be used by USMMA and SMA SIP graduates to request: (1) a waiver of their service obligation requirement; (2) a deferment of their service obligation; or (3) a review of the decision made about a waiver or deferment request by the Maritime Administrator.

Respondents: USMMA and SMA SIP graduates.

Affected Public: Individuals or households.

Estimated Number of Respondents: 11.

Estimated Number of Responses: 11.

Estimated Hours per Response: .5 Hours (30 minutes).

Annual Estimated Total Annual Burden Hours: 7.

Frequency of Response: As needed.

A 60-day Federal Register Notice soliciting comments on this information collection was published on June 5, 2025, Federal Register (FR 24192, Vol. 90, No. 208).

(Authority: The Paperwork Reduction Act of 1995; 44 U.S.C. Chapter 35, as amended; and 49 CFR 1.49.)

By Order of the Maritime Administration.
T. Mitchell Hudson, Jr.,
Secretary, Maritime Administration.

[FR Doc. 2025-16347 Filed 8-25-25; 8:45 am]

BILLING CODE 4910-81-P